DEPARTMENT OF LABOR

Employment and Training Administration

[TA-W-56,776]

Nokia, Fort Worth, Texas; Notice of Termination of Investigation

Pursuant to Section 221 of the Trade Act of 1974, as amended, an investigation was initiated on March 21, 2005 in response to a petition filed by a state agency representative on behalf of workers of Nokia Corporation, Ft. Worth, Texas.

The petitioner has requested that the petition be withdrawn. Consequently, the investigation has been terminated.

Signed at Washington, DC, this 21st day of April 2005.
Linda G. Poole,
Certifying Officer, Division of Trade Adjustment Assistance.

[FR Doc. E5-2134 Filed 5-2-05; 8:45 am]

BILLING CODE 4510-30-P